DEPARTMENT OF ENERGY

Federal Energy Regulatory Commission

Combined Notice of Filings #1

Take notice that the Commission received the following electric corporate filings:

Docket Numbers: EC25-104-000.

Applicants: Alpha Generation, LLC, Arthur Kill Power LLC, Clean Energy Future—Lordstown, LLC, Connecticut Jet Power LLC, Devon Power LLC,GB II Connecticut LLC, GB II New Haven LLC, GB II New York LLC, Generation Bridge Connecticut Holdings, LLC, Generation Bridge M&M Holdings, LLC, Kleen Energy Systems, LLC, Long Beach Generation LLC, Middletown Power LLC, Montville Power LLC, Oswego Harbor Power LLC, Parkway Generation Essex, LLC, Parkway Generation Keys Energy Center LLC, Parkway Generation Operating LLC, Parkway Generation Sewaren Urban Renewal Entity LLC, Black Volt B 2024 LLC.

Description: Supplement to 06/16/2025, Joint Application for Authorization Under Section 203 of the Federal Power Act of Alpha Generation, LLC, et al.

Filed Date: 7/16/25.

Accession Number: 20250716-5167.

Comment Date: 5 p.m. ET 8/6/25.

Docket Numbers: EC25-115-000.

Applicants: Red Oak Power, LLC, Strategic PPAV II, LLC.

Description: Joint Application for Authorization Under Section 203 of the Federal Power Act of Strategic PPAV II, LLC, et al.

Filed Date: 7/15/25.

Accession Number: 20250715-5168.

Comment Date: 5 p.m. ET 8/5/25.

Docket Numbers: EC25-116-000.

Applicants: Oak Hill Advisors, L.P., Cricket Valley Funding, LLC, Kiwoom US Power LLC, Cricket Valley Energy Center, LLC.

Description: Joint Application for Authorization Under Section 203 of the Federal Power Act of Cricket Valley Energy Center, LLC, et al.

Filed Date: 7/16/25.

Accession Number: 20250716-5164.

Comment Date: 5 p.m. ET 8/6/25

Take notice that the Commission received the following Complaints and Compliance filings in EL Dockets:

Docket Numbers: EL25-104-000.

Applicants: Kentucky Municipal Energy Agency.

Description: Kentucky Municipal Energy Agency o/b/o The City of Olive Hill, Kentucky submits Request for Partial Waiver of the PURPA Obligations of Electric Utilities to Purchase Energy and Capacity from Qualifying Facilities.

Filed Date: 7/15/25.

Accession Number: 20250715-5151.

Comment Date: 5 p.m. ET 8/14/25.

Take notice that the Commission received the following electric rate filings:

Docket Numbers: ER10-1633-004; ER10-1674-005; ER16-2186-002.

Applicants: Deseret Generation & Transmission Co-operative, Inc., Deseret Generation & Transmission Co-operative, Inc., Deseret Generation & Transmission Co-operative, Inc.

Description: Triennial Market Power Analysis for Northwest Region of Deseret Generation & Transmission Co-operative, Inc.

Filed Date: 7/15/25.

Accession Number: 20250715-5171.

Comment Date: 5 p.m. ET 9/15/25.

Docket Numbers: ER20-2448-006; ER22-7-001; ER22-14-002; ER22-281-002; ER22-286-002; ER22-288-002; ER22-289-002; ER22-15-002; ER16-2289-005; ER22-9-002; ER21-133-006; ER18-1174-005; ER16-2393-002; ER17-227-002; ER22-11-002; ER22-2784-004; ER21-1962-007; ER23-31-002; ER22-12-001; ER12-1911-007; ER12-1912-007; ER12-1913-007; ER12-1915-007; ER12-1916-007; ER12-1917-007; ER16-498-010; ER16-499-010; ER16-500-010; ER14-41-011; ER14-42-011; ER21-736-007; ER22-13-002; ER16-2277-004; ER21-2634-005; ER21-632-002; ER23-2967-001; ER15-1026-004.

Applicants: Utah Red Hills Renewable Park, LLC, Toms River Net Meter Solar, LLC, Toms River Merchant Solar, LLC, Solar Star Lost Hills, LLC, Solar Star California XLI, LLC, Regan Solar, LLC, RE Slate 1 LLC, RE Rosamond Two LLC, RE Rosamond One LLC, RE Mustang 4 LLC, RE Mustang 3 LLC, RE Mustang LLC, RE McKenzie 6 LLC, RE McKenzie 5 LLC, RE McKenzie 4 LLC, RE McKenzie 3 LLC, RE McKenzie 2 LLC, RE McKenzie 1 LLC, Puckett Solar, LLC, Pattersonville Solar Facility LLC, Mulberry BESS LLC, MN8 Energy Marketing LLC, Janis Solar, LLC, Innovative Solar 47, LLC, Innovative Solar 31, LLC, Imperial Valley Solar 2, LLC,HDSI, LLC, Grissom Solar, LLC, Golden Fields Solar I, LLC, ELP Stillwater Solar, LLC, Dry Bridge Solar 4, LLC, Dry Bridge Solar 3, LLC, Dry Bridge Solar 2, LLC, Dry Bridge Solar 1, LLC, Darby Solar, LLC, Branscomb Solar, LLC, American Kings Solar, LLC.

Description: Supplement to 05/29/2024, Notice of Change in Status of American Kings Solar, LLC, et al.

Filed Date: 7/10/25.

Accession Number: 20250710-5170.

Comment Date: 5 p.m. ET 7/31/25.

Docket Numbers: ER25-2266-001.

Applicants: Strobe Power NY, LLC.

Description: Tariff Amendment: Strobe Power NY LLC Market-Based Rate Tariff to be effective 7/20/2025.

Filed Date: 7/17/25.

Accession Number: 20250717-5129.

Comment Date: 5 p.m. ET 8/7/25.

Docket Numbers: ER25-2871-000.

Applicants: Northern Prairie Solar, LLC.

Description: Request for Limited and Prospective Waiver, et al. of Northern Prairie Solar, LLC.

Filed Date: 7/15/25.

Accession Number: 20250715-5155.

Comment Date: 5 p.m. ET 8/5/25.

Docket Numbers: ER25-2872-000.

Applicants: PJM Interconnection, L.L.C.

Description: Tariff Amendment: Notice of Cancellation of ISA, SA No. 5794; AD2-110 to be effective 11/6/2024..

Filed Date: 7/17/25.

Accession Number: 20250717-5017.

Comment Date: 5 p.m. ET 8/7/25.

Docket Numbers: ER25-2873-000.

Applicants: Midcontinent Independent System Operator, Inc., Ameren Illinois Company.

Description: 205(d) Rate Filing: Ameren Illinois Company submits tariff filing per 35.13(a)(2)(iii: 2025-07-17_SA 3064 Att A Proj Spec No. 1-Ameren Illinois-RECC-Farmersville Tap to be effective 9/16/2025.

Filed Date: 7/17/25.

Accession Number: 20250717-5020.

Comment Date: 5 p.m. ET 8/7/25.

Docket Numbers: ER25-2874-000.

Applicants: Northern States Power Company, a Minnesota corporation.

Description: 205(d) Rate Filing: 2025-07-17 BLU—SISA—770-NSP to be effective 7/18/2025.

Filed Date: 7/17/25.

Accession Number: 20250717-5033.

Comment Date: 5 p.m. ET 8/7/25.

Docket Numbers: ER25-2875-000.

Applicants: Portland General Electric Company.

Description: 205(d) Rate Filing: Fourth Amended and Restated CTA Ministerial Update to be effective 10/5/2024.

Filed Date: 7/17/25.

Accession Number: 20250717-5034.

Comment Date: 5 p.m. ET 8/7/25.

Docket Numbers: ER25-2876-000.

Applicants: Atlas VII, LLC.

Description: Initial Rate Filing: Baseline new COC to be effective 7/18/2025.

Filed Date: 7/17/25.

Accession Number: 20250717-5039.

Comment Date: 5 p.m. ET 8/7/25.

Docket Numbers: ER25-2877-000.

Applicants: Atlas VII, LLC.

Description: Initial rate filing: Normal filing 2025 COC All SFA to be effective 7/18/2025..

Filed Date: 7/17/25.

Accession Number: 20250717-5040.

Comment Date: 5 p.m. ET 8/7/25.

Docket Numbers: ER25-2878-000.

Applicants: Atlas VII, LLC.

Description: Initial rate filing: Normal filing 2025 COC Sub station 1 SFA to be effective 7/18/2025.

Filed Date: 7/17/25.

Accession Number: 20250717-5042.

Comment Date: 5 p.m. ET 8/7/25.

Docket Numbers: ER25-2879-000.

Applicants: Atlas IX, LLC.

Description: Initial Rate Filing: Baseline new COC to be effective 7/18/2025.

Filed Date: 7/17/25.

Accession Number: 20250717-5044.

Comment Date: 5 p.m. ET 8/7/25.

Docket Numbers: ER25-2880-000.

Applicants: Atlas IX, LLC.

Description: Initial rate filing: Normal filing 2025 COC All SFA to be effective 7/18/2025.

Filed Date: 7/17/25.

Accession Number: 20250717-5045.

Comment Date: 5 p.m. ET 8/7/25.

Docket Numbers: ER25-2881-000.

Applicants: Atlas IX, LLC.

Description: Initial rate filing: Normal filing 2025 COC Sub station 1 SFA to be effective 7/18/2025.

Filed Date: 7/17/25.

Accession Number: 20250717-5048.

Comment Date: 5 p.m. ET 8/7/25.

Docket Numbers: ER25-2882-000.

Applicants: Midcontinent Independent System Operator, Inc., Ameren Transmission Company of Illinois.

Description: 205(d) Rate Filing: Ameren Transmission Company of Illinois submits tariff filing per 35.13(a)(2)(iii: 2025-07-17 SA4535 ATXI-New Madrid-MEC WCA to be effective 9/16/2025.

Filed Date: 7/17/25.

Accession Number: 20250717-5057.

Comment Date: 5 p.m. ET 8/7/25.

Docket Numbers: ER25-2883-000.

Applicants: Redfield PV I, LLC.

Description: Initial Rate Filing: Redfield PV I, LLC—Initial MBR Tariff to be effective 10/1/2025.

Filed Date: 7/17/25.

Accession Number: 20250717-5061.

Comment Date: 5 p.m. ET 8/7/25.

Docket Numbers: ER25-2884-000.

Applicants: Alabama Power Company, Georgia Power Company, Mississippi Power Company.

Description: 205(d) Rate Filing: Alabama Power Company submits tariff filing per 35.13(a)(2)(iii: Section 205 Filing to Implement Reforms to Southern's Interconnection Process to be effective 9/16/2025.

Filed Date: 7/17/25.

Accession Number: 20250717-5066.

Comment Date: 5 p.m. ET 8/7/25.

Docket Numbers: ER25-2885-000.

Applicants: PJM Interconnection, L.L.C.

Description: Tariff Amendment: Notice of Cancellation of ISA, SA No. 6247; AE2-218 re: withdrawal to be effective 9/16/2025.

Filed Date: 7/17/25.

Accession Number: 20250717-5097.

Comment Date: 5 p.m. ET 8/7/25.

Docket Numbers: ER25-2886-000.

Applicants: Tucson Electric Power Company.

Description: 205(d) Rate Filing: Replacement Generation OATT Revisions to be effective 9/17/2025.

Filed Date: 7/17/25.

Accession Number: 20250717-5106.

Comment Date: 5 p.m. ET 8/7/25.

Docket Numbers: ER25-2887-000.

Applicants: Westlands Cherry, LLC.

Description: Initial Rate Filing: Westlands Cherry MBR Application to be effective 9/1/2025.

Filed Date: 7/17/25.

Accession Number: 20250717-5118.

Comment Date: 5 p.m. ET 8/7/25.

Docket Numbers: QM25-5-000.

Applicants: MidAmerican Energy Company.

Description: Application of MidAmerican Energy Company to Terminate Its Mandatory Purchase Obligation under the Public Utility Regulatory Policies Act of 1978.

Filed Date: 7/15/25.

Accession Number: 20250715-5158.

Comment Date: 5 p.m. ET 8/12/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 17, 2025.
Carlos D. Clay,
Deputy Secretary.

[FR Doc. 2025-13759 Filed 7-21-25; 8:45 am]

BILLING CODE 6717-01-P